DEPARTMENT OF COMMERCE

National Oceanic and Atmospheric Administration

Agency Information Collection Activities; Submission to the Office of Management and Budget (OMB) for Review and Approval; Comment Request; Analysis for Probabilistic and Risk Reduction Decision Support Fire Weather Services

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before April 15, 2024.

ADDRESSES: Interested persons are invited to submit written comments to Adrienne Thomas, NOAA PRA Officer, at NOAA.PRA@noaa.gov. Do not submit Confidential Business Information or otherwise sensitive or protected information.

FOR FURTHER INFORMATION CONTACT: Requests for additional information or specific questions related to collection activities should be directed to Robyn Heffernan, National Fire Weather Services Senior Advisor, NOAA National Weather Service, 3833 S Development Ave., Boise, ID 83705, (208) 387-5089, robyn.heffernan@noaa.gov.

SUPPLEMENTARY INFORMATION:

I. Abstract

This is a request for a new collection of information.

The data collection is sponsored by DOC/NOAA/National Weather Service (NWS)/Analyze, Forecast, and Support Office (AFS), National Fire Weather Program. Under the Disaster Relief Supplemental Appropriations Act of 2022, Congress charged NOAA/NWS to improve (a) Hurricane intensity and track forecasting, including through deployment of unmanned ocean observing platforms and enhanced data assimilation; (b) precipitation and flood prediction, forecasting, and mitigation capabilities; and (c) wildfire research, prediction, detection, forecasting, monitoring, data management, and communication and engagement. Based on this directive, the NWS is conducting this project to improve decision support services for fire weather products and services. By using social science methods and risk communication expertise, the NWS seeks to identify how probabilistic weather information can most effectively influence fire-related decision-making to protect lives and property and enhance the economy. This data collection will include an on-line survey and virtual focus groups. The survey sample will be a non-representative panel that will draw primarily from the Western, Southern Plains, and Southeastern portions of the United States. The focus groups will be conducted with Public Information Officers and Fire Weather Practitioners at the national, regional, state, and local levels based on contacts known to the NWS. The insights and findings derived from this data collection will be used to develop Impact Decision Support Services' products and messages.

II. Method of Collection

Both the survey and the focus groups will be conducted electronically via video conferencing technology based on schedules and participant preference.

III. Data

OMB Control Number: 0648-XXXX.

Form Number(s): None.

Type of Review: Regular submission new information collection.

Affected Public: Individuals, State, local, or Tribal government.

Estimated Number of Respondents: 2,140.

Estimated Time per Response: Focus group: 2 hours; Survey: 15 minutes.

Estimated Total Annual Burden Hours: 605 hours.

Estimated Total Annual Cost to Public: None.

Respondent's Obligation: Voluntary.

Legal Authority: Disaster Relief Supplemental Appropriations Act of 2022.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2024-03190 Filed 2-14-24; 8:45 am]

BILLING CODE 3510-KE-P